FEDERAL COMMUNICATIONS COMMISSION

47 CFR Part 73

[DA 00-2214, MM Docket No. 00-183, RM-9959]

Digital Television Broadcast Service; Albany, NY

AGENCY: Federal Communications Commission.

ACTION: Proposed rule.

SUMMARY: The Commission requests comments on a petition filed by Hubbard Broadcasting, Inc., licensee of WNYT(TV), NTSC Channel 13, Albany, New York, proposing the substitution of DTV Channel 12 for Station WNYT(TV)'s assigned DTV Channel 15. DTV Channel 12 can be allotted to Albany, New York, in compliance with the principle community coverage requirements of Section 73.625(a) at reference coordinates (42-37-37 N. and 74-00-49 W.). However, since the community of Albany is located within 400 kilometers of the U.S.-Canadian border, concurrence by the Canadian government must be obtained for this proposal. As requested, we propose to allot DTV Channel 12 to Albany with a power of 10 and a height above average terrain (HAAT) of 421 meters.

DATES: Comments must be filed on or before November 27, 2000, and reply comments on or before December 12, 2000.

ADDRESSES: Federal Communications Commission, 445 12th Street, SW., Room TW-A325, Washington, DC 20554. In addition to filing comments with the FCC, interested parties should serve the petitioner, or its counsel or consultant, as follows: Marvin Rosenberg, David A. O'Connor, Holland & Knight, LLP, 2100 Pennsylvania Avenue, NW., Suite 400 Washington, DC 20037-3202 (Counsel for Hubbard Broadcasting, Inc.).

FOR FURTHER INFORMATION CONTACT: Pam Blumenthal, Mass Media Bureau, (202) 418-1600.

SUPPLEMENTARY INFORMATION: This is a synopsis of the Commission's Notice of Proposed Rule Making, MM Docket No. 00-183, adopted October 3, 2000, and released October 4, 2000. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-25739 Filed 10-5-00; 8:45 am]

BILLING CODE 6712-01-P